FEDERAL COMMUNICATIONS COMMISSION

47 CFR Part 73

[DA 03-3335; MB Docket No. 03-64, RM-10672]

Radio Broadcasting Services; Lamont and McFarland, CA

AGENCY: Federal Communications Commission.

ACTION: Final rule.

SUMMARY: The Audio Division, at the request of Dana J. Puopolo, allots Channel 247A to Lamont, California, as the community's first local aural transmission service. In order to accommodate the allotment at Lamont, the Audio Division substitutes Channel 282A for vacant Channel 247A at McFarland, California. See 68 FR 15142, March 28, 2003. Channel 247A can be allotted to Lamont, California, consistent with the minimum distance separation requirement of the Commission's Rules, provided there is a site restriction of 6.5 kilometers (4.1 miles) southeast of the community. The reference coordinates for Channel 247A at Lamont are 35-12-23 North Latitude and 118-52-57 West Longitude. Moreover, Channel 282A can be allotted to McFarland, California by using the same reference coordinates as vacant Channel 247A, in conformity with the Commission's Rules, provided there is a site restriction of 10.3 kilometers (6.4 miles) west of the community. The reference coordinates for Channel 282A at McFarland are 35-40-16 North Latitude and 119-20-30 West Longitude. A filing window for Channel 247A at Lamont, California and Channel 282A at McFarland, California, will not be opened at this time. Instead, the issue of opening a filing window for these channels will be addressed by the Commission in a subsequent order.

DATES: Effective December 8, 2003.

ADDRESSES: Federal Communications Commission, 445 Twelfth Street, SW., Washington, DC 20554.

FOR FURTHER INFORMATION CONTACT: Rolanda F. Smith, Media Bureau, (202) 418-2180.

SUPPLEMENTARY INFORMATION: This is a synopsis of the Commission's Report and Order, MB Docket No. 03-64, adopted October 22, 2003, and released October 24, 2003. The full text of this Commission decision is available for inspection and copying during regular business hours at the FCC's Reference Information Center, Portals II, 445 Twelfth Street, SW., Room CY-A257, Washington, DC 20554. The complete text of this decision may also be purchased from the Commission's duplicating contractor, Qualex International, Portals II, 445 12th Street, SW., Room CY-B402, Washington, DC 20554, telephone 202-863-2893, facsimile 202-863-2898, or via e-mail qualexint@aol.com.

List of Subjects in 47 CFR Part 73

Radio, Radio broadcasting.

PART 73—RADIO BROADCAST SERVICES

1. The authority citation for part 73 continues to read as follows:

Authority: 47 U.S.C. 154, 303, 334 and 336.

§ 73.202 [Amended]

2. Section 73.202(b), the Table of FM Allotments under California, is amended by adding Lamont, Channel 247A, by removing Channel 247A and by adding Channel 282A at McFarland.

Federal Communications Commission.
John A. Karousos,
Assistant Chief, Audio Division, Media Bureau.

[FR Doc. 03-27822 Filed 11-4-03; 8:45 am]

BILLING CODE 6712-01-P